ENVIRONMENTAL PROTECTION AGENCY

40 CFR Part 131

[FRL-OW-6839-7]

RIN 2040-ZA00

Extension of Comment Period and Change to Public Hearing Schedule for the Proposed Rule on Water Quality Standards for Kansas

AGENCY: Environmental Protection Agency.

ACTION: Proposed rule; extension of comment period and change to public hearing schedule.

SUMMARY: EPA is extending the comment period and rescheduling the public hearing for its July 3, 2000, proposed rule to promulgate water quality standards for the State of Kansas. If promulgated as final standards, they would supersede aspects of Kansas's water quality standards that EPA disapproved in 1998. In furtherance of EPA's 1998 disapproval action, EPA is proposing: that all discharges to stream segments for which continuous flow is sustained primarily through the discharge of treated effluent shall protect the States' designated uses; that 7Q10, 4B3, or other scientifically defensible design flows approved by EPA shall be used to implement the State's chronic aquatic life criteria; that 1Q10, 1B3, or other scientifically defensible design flows approved by EPA shall be used to implement the State's acute aquatic life criteria; implementation procedures for use when applying the States' antidegradation policy to determine whether to allow a lowering of surface water quality by point sources of pollution where nonpoint sources also contribute the pollutant of concern to that body of water; and, an aquatic life use for one stream segment and a primary contact recreation use for 1,292 stream segments and 164 lakes. In addition, under its discretionary authority to address State standards that the Administrator determines are inconsistent with the Clean Water Act, EPA is proposing: that water quality standards in Kansas apply to all privately owned surface waters in Kansas that are waters of the U.S.; and numeric human health criteria for alpha- and beta-endosulfan.

EPA originally established a deadline of September 1, 2000, for the submission of public comments on this proposed rule. In response to concerns raised by stakeholders, EPA is extending the comment period until October 16, 2000 and is rescheduling the public hearings. It is EPA's intent to provide the public and all stakeholders an adequate period of time to fully analyze the issues, to prepare comprehensive comments and to assemble any available data. Therefore, we are extending the comment period an additional 46 days for a total comment period of 105 days. Furthermore, EPA is rescheduling the public hearings from July 27, 2000 to September 13 and 14, 2000 to provide additional time for interested parties to prepare for the hearings.

DATES: EPA will accept public comments on this proposed rule until October 16, 2000. Comments postmarked after this date may not be considered. On September 13 and 14, 2000, EPA is holding public hearings on proposed water quality standards for Kansas.

ADDRESSES: Persons wishing to submit comments should send an original plus 2 copies, (and, if possible, an electronic version of comments either in WordPerfect or ASCII format), to Ann Jacobs at jacobs.ann@epa.gov or at U.S. EPA Region VII, Water Resources Protection Branch, 901 North 5th Street, Kansas City, Kansas 66101. There will be two public hearings. The first public hearing will be held on Wednesday, September 13, 2000, from 6:30 p.m. to 9:00 p.m. (CDT) in the Museum Classroom of the Kansas Center for Historical Research at 6425 S.W. 6th Avenue in Topeka, Kansas. The telephone number for the Kansas Center for Historical Research is 785-272-8681. The second public hearing will be held on Thursday, September 14, from 6:30 p.m. to 9:00 p.m. (CDT) in the Convention Center of the Best Western Silver Spur at 1510 West Wyatt Earp Boulevard in Dodge City, Kansas. The telephone number of the Best Western Silver Spur is 316-227-2125. The administrative record for today's proposed rule is available for public inspection at EPA Region VII, Regional Records Center, 901 North 5th Street, Kansas City, Kansas 66101, between 8 a.m. and 4:30 p.m.

FOR FURTHER INFORMATION CONTACT: Ann Jacobs at jacobs.ann@epa.gov or at U.S. EPA Region VII, Water Resources Protection Branch, 901 North 5th Street, Kansas City, Kansas 66101 (Telephone: 913-551-7930).

Dated: July 17, 2000.
J. Charles Fox,
Assistant Administrator, Office of Water.

[FR Doc. 00-18642 Filed 7-21-00; 8:45 am]

BILLING CODE 6560-50-P